DEPARTMENT OF ENERGY

Federal Energy Regulatory Commission

Combined Notice of Filings #1

January 31, 2006.

Take notice that the Commission received the following electric rate filings.

Docket Numbers: ER06-540-000.

Applicants: Entergy Services, Inc.

Description: Entergy Arkansas, Inc. submits an executed Service Agreement which provides cost-based short-term power sales to North Arkansas Electric, Inc.

Filed Date: January 25, 2006.

Accession Number: 20060127-0129.

Comment Date: 5 p.m. Eastern Time on Wednesday, February 15, 2006.

Docket Numbers: ER06-541-000.

Applicants: Old Lane Commodities, LP.

Description: Old Lane Commodities, LP submits an application for market-based rate authority.

Filed Date: January 25, 2006.

Accession Number: 20060127-0130.

Comment Date: 5 p.m. Eastern Time on Wednesday, February 15, 2006.

Docket Numbers: ER06-542-000.

Applicants: Wisconsin Electric Power Company.

Description: Wisconsin Electric Power Co. submits proposed revisions to FERC Electric Tariff, Original Volume No. 8 market-based power sales and resale transmission tariff.

Filed Date: January 25, 2006.

Accession Number: 20060127-0121.

Comment Date: 5 p.m. Eastern Time on Wednesday, February 15, 2006.

Docket Numbers: ER06-543-000.

Applicants: Florida Power Corporation.

Description: Progress Energy Service Co. on behalf of Florida Power Corp., et al. submits a new rate schedule for service to Reedy Creek Improvement District.

Filed Date: January 25, 2006.

Accession Number: 20060127-0120.

Comment Date: 5 p.m. Eastern Time on Wednesday, February 15, 2006.

Docket Numbers: ER06-544-000.

Applicants: American Electric Power Services Corp.

Description: American Electric Power Service Corp. on behalf of its affiliate, AEP Texas North Co. submits a fully executed Second Interconnection Agreement with Buffalo Gap Wind Farm 2, LLC.

Filed Date: January 25, 2006.

Accession Number: 20060127-0137.

Comment Date: 5 p.m. Eastern Time on Wednesday, February 15, 2006.

Docket Numbers: ER06-545-000.

Applicants: American Electric Power Service Corp.

Description: Ohio Power Co.'s Notice of Cancellation of Second Revised Service Agreement No. 463 under Companies of the American Electric Power System Open Access Transmission Tariff, FERC Electric Tariff, 3rd Revised Volume No. 6.

Filed Date: January 25, 2006.

Accession Number: 20060127-0136.

Comment Date: 5 p.m. Eastern Time on Wednesday, February 15, 2006.

Docket Numbers: ER06-546-000.

Applicants: Cinergy Services, Inc.

Description: Cinergy Services, Inc. on behalf of the Union Light, Heat & Power Co. and the Cincinnati Gas & Electric Co. notifies FERC of its withdrawal of the Purchase, Sale and Operation Agreement.

Filed Date: January 25, 2006.

Accession Number: 20060127-0123.

Comment Date: 5 p.m. Eastern Time on Wednesday, February 15, 2006.

Docket Numbers: ER06-547-000.

Applicants: Cinergy Services, Inc.

Description: Cinergy Services, Inc. on behalf of the Cincinnati Gas & Electric Co. et al. submit a notice of termination to the Joint Generation Dispatch Agreement.

Filed Date: January 25, 2006.

Accession Number: 20060127-0122.

Comment Date: 5 p.m. Eastern Time on Wednesday, February 15, 2006.

Docket Numbers: ER06-548-000.

Applicants: Cincinnati Gas & Electric Company.

Description: The Cincinnati Gas & Electric Co submits an amended Facilities Operation Agreement with the Union Light, Heat and Power Co.

Filed Date: January 25, 2006.

Accession Number: 20060127-0135.

Comment Date: 5 p.m. Eastern Time on Wednesday, February 15, 2006.

Docket Numbers: ER06-558-000.

Applicants: New York Independent System Operator, Inc.

Description: The New York Independent System Operator, Inc. requests a one-time waiver of two provisions of Attachment S to the Open Access Transmission Tariff.

Filed Date: January 23, 2006.

Accession Number: 20060131-0031.

Comment Date: 5 p.m. Eastern Time on Tuesday, February 7, 2006.

Docket Numbers: ER98-570-004.

Applicants: Maine Yankee Atomic Power Company.

Description: Maine Yankee Atomic Power Co. submits filing in compliance with 1999 settlement agreement.

Filed Date: January 20, 2006.

Accession Number: 20060130-0320.

Comment Date: 5 p.m. Eastern Time on Friday, February 10, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-1665 Filed 2-7-06; 8:45 am]

BILLING CODE 6717-01-P